DEPARTMENT OF HEALTH AND HUMAN SERVICES

Centers for Disease Control and Prevention

[30Day-17-1014]

Agency Forms Undergoing Paperwork Reduction Act Review

In accordance with the Paperwork Reduction Act of 1995, the Centers for Disease Control and Prevention (CDC) has submitted the information collection request titled CDC Worksite Health Scorecard to the Office of Management and Budget (OMB) for review and approval. CDC previously published a “Proposed Data Collection Submitted for Public Comment and Recommendations” notice on March 2, 2017 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

CDC Worksite Health Scorecard (OMB Control Number 0920-1014, expired 4/30/2017)—Reinstatement with Change—National Center for Chronic Disease Prevention and Health Promotion (NCCDPHP), Centers for Disease Control and Prevention (CDC).

Background and Brief Description

The Centers for Disease Control and Prevention (CDC) has established the Worksite Health Scorecard (Scorecard), an online organizational assessment tool, to enable employers to assess the number of evidence-based health promotion interventions or strategies in their worksites to prevent heart disease, stroke, and related conditions such as hypertension, diabetes, and obesity.

The CDC Worksite Health Scorecard will support small, mid-size, and large employer with three primary goals: (1) Assist employers in identifying gaps in their health promotion programs, and help them to prioritize high-impact strategies for health promotion at their worksites; (2) Improve the health and wellbeing of employees and their families through science-based workplace health interventions and promising practices; and (3) Support research and increase understanding of the organizational programs, policies, and practices that employers of various sizes and industry sectors have implemented to support healthy lifestyle behaviors.

The Scorecard approval under OMB Control number 0920-1014 expired at a time when it was unclear if resources would be available to continue its use. Strong commitments from internal and external stakeholders have enabled CDC to continue to offer a revised Scorecard to employers nationwide. CDC is requesting a reinstatement with change to a previously approved data collection. CDC plans to first pilot test an updated version of the Scorecard and when finalized submit a revision request to expand the number of employers the new Scorecard is offered to.

From 2014-2016, 1,531 worksites have submitted CDC Worksite Health Scorecards from employers in 40 different states. The average employer is implementing a little more than half of the recommended programmatic, policy, environmental support, and health-benefit intervention strategies assessed in the Scorecard. Additionally, those employers who have re-assessed at least once during this period have seen their Scorecard score improve from an average of 95.85 points to 139.72 points. This represents an improvement in the total number of intervention strategies being implemented as well as the number of best practice and high-impact strategies, which garner more points improving the work environment for employees to improve their health and well-being. Overall, exposure to the Scorecard is contributing to better and more effective work-place health program offerings to employees.

CDC will recruit a convenience sample of one hundred employers (each represented by two knowledgeable employees for 200 total respondents) to pilot test and evaluate the updated Scorecard. CDC will seek a diverse set of employers with respect to size and industry type who will be reached through meetings, presentations, and through gatekeeper organizations to be enrolled/registered. The updated Scorecard includes questions in four new topic areas: Sleep (8 questions); Alcohol & Other Substance Abuse (6 questions); Cancer (7 questions); and Musculoskeletal Disorders (7 questions), to include minor revisions to previously existing questions or adjustment in the associated points received for answering affirmatively to a question based on supporting evidence from the peer reviewed literature as well as sources such as the Community Guide. Additional updates also included dropping 20 questions from the prior version due to redundancy or lack of evidence to support their use. From the employers that complete the survey, CDC will conduct follow-up telephone interviews on a subset of about 16 employers (each represented by two knowledgeable employees, for 32 respondents in total). The follow-up telephone interviews will gather general impressions of the Scorecard—particularly the new modules and allow for discussion of items that presented discrepancies (and items that were left blank) to understand the respondent's interpretation and perspective of their answers these questions. This process will assess the validity and reliability of the questions, as well as allow CDC to gather suggestions for additional refinements, where necessary.

Following this pilot testing, CDC will continue to provide outreach to and register approximately 800 employers per year to use the online survey Scorecard in their workplace health program assessment, planning, and implementation efforts, which is open to employers of all sizes, industry sectors, and geographic locations across the country.

CDC requests a one-year OMB approval for this project. CDC will pilot test the updated Scorecard in year one and create a finalized version of the instrument based on respondent feedback gathered during the pilot. After the completion of the pilot test, CDC will submit a finalized instrument as a revision request for a three-year clearance.

Participation in the CDC Worksite Health Scorecard is voluntary and there are no costs to respondents other than their time. The total estimated annualized burden hours are 303.

Estimated Annualized Burden Hours
Type of respondent | Form name | Number of respondents | Number of responses per respondent | Average burden per response (in hours)
Employer pilot | CDC Worksite Health Scorecard Registration Application | 200 | 1 | 2/60
| CDC Worksite Health Scorecard | 200 | 1 | 1.25
| CDC Worksite Health Scorecard Cognitive interview | 32 | 1 | 1
| CDC Worksite Health Scorecard Pilot evaluation | 200 | 1 | 5/60

Leroy A. Richardson,
Chief, Information Collection Review Office, Office of Scientific Integrity, Office of the Associate Director for Science, Office of the Director, Centers for Disease Control and Prevention.

[FR Doc. 2017-24472 Filed 11-9-17; 8:45 am]

BILLING CODE 4163-18-P